SECURITIES AND EXCHANGE COMMISSION

[Release No. PA-44A; File No. S7-17-10]

Privacy Act of 1974: Systems of Records

AGENCY: Securities and Exchange Commission.

ACTION: Notice to establish systems of records; correction.

The Securities and Exchange Commission published a document in the Federal Register of August 23, 2010 concerning a Notice to establish systems of records. This correction is being published to change the effective date of that notice.

FOR FURTHER INFORMATION CONTACT: Barbara A. Stance, Chief Privacy Officer, Office of Information Technology, 202-551-7209.

In the Federal Register of August 23, 2010 in FR Doc. 2010-20999 on page 51854, in the third column, the effective date in the DATES section is corrected to read “September 29, 2010.”

Dated: September 1, 2010.
Elizabeth M. Murphy,
Secretary.

[FR Doc. 2010-22227 Filed 9-7-10; 8:45 am]

BILLING CODE 8010-01-P